DEPARTMENT OF TRANSPORTATION

National Highway Traffic Safety Administration

[Docket No. NHTSA-02-12087; Notice 1]

Century Products; Receipt of Application for Decision of Inconsequential Noncompliance

Century Products, a Division of Graco Children's Products, Inc. (“Century Products” and “Graco”), of Macedonia, Ohio, has determined that as many as 185,175 child restraints may fail to comply with 49 CFR 571.213, Federal Motor Vehicle Safety Standard (FMVSS) No. 213, “Child Restraint Systems,” and has filed appropriate reports pursuant to 49 CFR part 573, “Defects and Noncompliance Reports.” Century Products has also applied to be exempted from the notification and remedy requirements of 49 U.S.C. Chapter 301—“Motor Vehicle Safety” on the basis that the noncompliance is inconsequential to safety.

This notice of receipt of an application is published under 49 U.S.C. 30118 and 30120, and does not represent any agency decision or other exercise of judgement concerning the merits of the application.

FMVSS No. 213, Paragraph S5.1.1, states that when a child restraint system is tested in accordance with S6.1, it shall “exhibit no complete separation of any load bearing structural element and no partial separation exposing either surfaces with a radius of less than 1/4 inch or surfaces with protrusions greater than 3/8 inch above the immediate adjacent surrounding contactable surface of any structural element of the system.”

In its part 573 Defect and Noncompliance Report filed with the agency on December 11, 2001, Century Products states “On December 5, 2001, Century Products * * * decided that a noncompliance with Federal Motor Vehicle Safety Standard No. 213 exists in * * * certain * * * “Celestia” model infant car seats manufactured by Century Products * * * ” The Celestia infant seat is sold with a detachable base that may be used to permit a fixed installation into the vehicle, allowing the child seat to be taken in and out of the vehicle without having to do a new installation each time. The Celestia infant seat can also be used without the detachable base. Century Products has identified 185,175 Celestia infant car seats manufactured between January 1, 2000 and December 6, 2001 that may contain this noncompliance. In its Application for Decision of Inconsequential Noncompliance, Century Products states that it:

has discovered variations in the plastic molding process during the manufacture of the plastic shell of the carrier portion (not the base) of the Subject Products, which can result in a void in the shell wall. This void may cause shell wall separation during the dynamic crash test specified by FMVSS No. 213 when the base is not used, rendering the seat noncompliant * * * There is no noncompliance when the car seat is installed in the vehicle with the base.

In its part 573 Report, Century Products states that:

Graco conducted a dynamic crash test audit of its Celestia infant car seats on December 4, 2001. Graco tested (ten) 10 Celestia infant car seats without the base, randomly taken from inventory. Four (4) of the ten (10) units exhibited wall separation and the presence of a void at the initiation point of the separation. As a result of this audit testing, Graco determined that a noncompliance existed.

Century Products believes that the FMVSS No. 213 noncompliance described above is inconsequential to motor vehicle safety. Century Products supports its application for inconsequential noncompliance with the following:

The risk of injury resulting from the wall separation during the dynamic crash test is inconsequential for several reasons. First, the shell wall separation does not affect, increase, or adversely influence the seat back angle. Thus, the restraint systems comply with FMVSS 213 S5.1.4, which provides that “[w]hen a rear-facing child restraint system is tested in accordance with S6.1, the angle between the system's back support surface for the child and the vertical shall not exceed 70 degrees.”

Second, all portions of the test dummy's torso were retained within the system and all other requirements regarding target points on either side of the dummy's head comply with FMVSS 213 S5.1.3.2.

Third, the infant shell remained securely attached to the lap belt during testing. The separation did not contribute to any degradation in the ability of the vehicle belt to retain the infant seat in its original position.

Fourth, the shell wall separation did not create an opening that contributes to the pinching, shearing, or scissoring of fingers, toes, or limbs or any other body part of either the occupant or an adjacent child seated next to the infant seat. The seat pad also acts as a mechanism to keep the occupant from contacting the separated area.

Fifth, the shell wall separation occurs at relatively high energy levels, with the separation occurring late in the application of energy of the crash test (as revealed by Century Products' review of the flexing of the infant shell wall). Few motor vehicle accidents occur at the maximum energy levels of the dynamic crash test. The possibility of a wall separation occurring in the field therefore is remote.

Sixth, the shell wall separation occurs only in a high stress area on the shell when the shell is used without the base. When the shell is used with the base, the area in question experiences no significant stress. All of the subject products were sold with a stay-in-the-car base. The base is the most predominately used mode with the infant shell due to its convenience of removing the carrier from the vehicle.

Seventh, in the approximately 18 months that the infant shell has been in use in the subject products, there have been no reports of any incidents or complaints regarding the wall separation on the shell.

Eighth, product owners are advised in the accompanying literature that the seat should be discarded following a crash. In addition, it is a well-known industry practice to discontinue using a child restraint after it has experienced a crash. Thus, there is little risk of injury from the wall separation during a subsequent incident.

Based on the above, Century Products believes that a child subjected to a crash will be fully protected as required by FMVSS 213. Under the circumstances as set forth above, Century Products believes that the noncompliance is inconsequential as it relates to motor vehicle safety. Accordingly, Century Products respectfully requests that it be exempt from the notice and remedy procedures of the Safety Act.

Interested persons are invited to submit written data, views, and arguments on the applications of Century Products described above. Comments should refer to the docket number and be submitted to: U.S. Department of Transportation Docket Management, Room PL-401, 400 Seventh Street, SW, Washington, DC 20590. It is requested, but not required, that two copies be submitted.

All comments received before the close of business on the closing date indicated below will be considered. The application and supporting materials, and all comments received after the closing date, will also be filed and will be considered to the extent possible. When the application is granted or denied, the notice will be published in the Federal Register pursuant to the authority indicated below.

Comment closing date: June 17, 2002.

(49 U.S.C. 30118 and 30120; delegations of authority at 49 CFR 1.50 and 501.8)

Issued on: May 13, 2002.
Stephen R. Kratzke,
Associate Administrator for Safety Performance Standards.

[FR Doc. 02-12426 Filed 5-16-02; 8:45 am]

BILLING CODE 4910-59-P